DEPARTMENT OF DEFENSE

Office of the Secretary

[Docket ID: DoD-2022-OS-0048]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by June 21, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Military Spouse Priority Placement Program Self-Certification Checklist; DD Form 3145-4; OMB Control Number 0704-MSSC.

Type of Request: New.

Number of Respondents: 277,448.

Responses per Respondent: 1.

Annual Responses: 277,448.

Average Burden per Response: 30 minutes.

Annual Burden Hours: 138,724.

Needs and Uses: The Military Spouse Priority Placement Program Self-Certification Checklist must be completed by military spouses when applying for appropriated funds GS-15 and below (or equivalent positions in other pay systems) in the competitive service or excepted service in order to receive priority consideration for competitive service and excepted service positions at DoD activities in the U.S., and in U.S. territories and possessions. The military spouses must provide evidence of their appointment eligibility, and evidence of marriage to a current active duty military member of the U.S. Armed Forces (including the U.S. Coast Guard and full-time National Guard or Military Reservist) with a copy of the permanent-change-of-station orders. This collection will be used by gaining DoD activities to certify preference eligibility for the possible appointment of the military spouse into their vacancy.

Affected Public: Individuals or households.

Frequency: Annually.

Respondent's Obligation: Mandatory.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: May 16, 2023.
Aaron T. Siegel,
Alternate OSD Federal Register Liaison Officer, Department of Defense.

[FR Doc. 2023-10801 Filed 5-19-23; 8:45 am]

BILLING CODE 5001-06-P